DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the Hazard Mitigation Grant Program reporting requirements.

SUPPLEMENTARY INFORMATION: Section 404 of the Robert T. Stafford Disaster Relief and Emergency Assistance Act, 44 U.S.C. 5170c, establishes the Hazard Mitigation Grant Program. Grant requirements, and grants management procedures of the program are outlined in 44 CFR Part 13.

Collection of Information

Title: Hazard Mitigation Grant Program Application and Reporting.

Type of Information Collection: Revision of a currently approved collection.

OMB Number: 1660-0076.

Form Numbers: None.

Abstract: Grantees administer the Hazard Mitigation Grant Program, which is a post-disaster program that contributes funds toward the cost of hazard mitigation activities in order to reduce the risk of future damage hardship, loss or suffering in any area affected by a major disaster. FEMA uses applications to provide financial assistance in the form of grant awards and, through grantee quarterly reporting, monitors grantee project activities and expenditure of funds.

Affected Public: State, local or tribal government.

Estimated Total Annual Burden Hours:

Annual Burden Hours
Data collection activities/instruments | Number of respondents: (A) | Frequency of responses: (B) | Burden hours per respondent: (C) | Annual responses: (D=A×B) | Total annual burden hours: (E=C×D)
Project Narrative section 209.8(b) | 56 | 18 | 12 | 1008 | 12,096
Benefit-Cost Determination | 56 | 18 | 5 | 1008 | 5,040
Environmental Review | 56 | 18 | 7.5 | 1008 | 7,560
FEMA 345, HMGP Desk Reference | 56 | 1 | 4 | 56 | 224
Annual Audit & Audit Trail Requirements | 56 | 1 | 40 | 56 | 2,240
Total Burden for HMGP | 56 | 56 |  | 3136 | 27,160

Estimated Cost: The State Hazard Mitigation Office staff is usually comprised of urban and regional planners. Wage rates for urban and regional planners were determined using data from the U.S. Department of Labor, Bureau of Labor Statistics (BLS). Currently, BLS data indicate that the median hourly earnings of urban and regional planners for 2004 were $26.75 for an annualized cost of $726,530.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before January 8, 2007.

ADDRESSES: Interested persons should submit written comments to Chief, Records Management and Privacy, Information Resources Management Branch, Information Technology Services Division, Federal Emergency Management Agency, 500 C Street, SW., Room 316, Washington, DC 20472.

FOR FURTHER INFORMATION CONTACT: Contact Cecelia Rosenberg, Chief, Grants Policy Section, Mitigation Division, (202) 646-3321 for additional information. You may contact the Records Management Branch for copies of the proposed collection of information at facsimile number (202) 646-3347 or e-mail address: FEMA-Information-Collections@dhs.gov.

Dated: November 2, 2006.
John A. Sharetts-Sullivan,
Chief, Records Management and Privacy Information Resources Management Branch, Information Technology Services Division, Federal Emergency Management Agency, Department of Homeland Security.

[FR Doc. E6-18834 Filed 11-7-06; 8:45 am]

BILLING CODE 9110-41-P